DEPARTMENT OF TRANSPORTATION

Federal Aviation Administration

14 CFR Part 39

[Docket No. FAA-2004-19989; Directorate Identifier 2004-NM-151-AD]

RIN 2120-AA64

Airworthiness Directives; Boeing Model 767-300 and -400ER Series Airplanes

AGENCY: Federal Aviation Administration (FAA), DOT.

ACTION: Notice of proposed rulemaking (NPRM).

SUMMARY: The FAA proposes to adopt a new airworthiness directive (AD) for certain Boeing Model 767-300 and -400ER series airplanes. This proposed AD would require replacing the in-flight entertainment cooling card, located in the P50 card file in the main equipment center, with a new, improved cooling card. This proposed AD is prompted by a report of an improperly designed component on the in-flight entertainment (IFE) cooling card, which may cause the IFE cooling system to incorrectly interpret signals from airplane system interfaces. We are proposing this AD to prevent failure of the IFE cooling card to configure itself correctly in response to input signals from airplane system interfaces during a forward cargo fire, which could result in the IFE cooling fan causing smoke to penetrate occupied areas of the airplane.

DATES: We must receive comments on this proposed AD by February 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2004-19989; the directorate identifier for this docket is 2004-NM-151-AD.

FOR FURTHER INFORMATION CONTACT: Technical information: Clint Jones, Aerospace Engineer, Cabin Safety and Environmental Systems Branch, ANM-150S, FAA, Seattle Aircraft Certification Office, 1601 Lind Avenue, SW., Renton, Washington 98055-4056; telephone (425) 917-6471; fax (425) 917-6590.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19989; Directorate Identifier 2004-NM-151-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report that on a Boeing Model 767-400ER series airplane, the field programmable gate array component on the in-flight entertainment (IFE) cooling card was improperly designed. During flight, this improperly designed component may cause failure of the cooling card to correctly configure itself in response to input signals from airplane system interfaces. The report also indicates that, during functional testing or other ground operations, the improperly designed component may cause nuisance failure indications for components in the IFE cooling system that are monitored by the IFE cooling card. If the IFE cooling card is configured correctly, the IFE cooling fan will shut down during an in-flight event such as a cargo fire, smoke in the flight deck, electronic equipment override selection, or IFE equipment smoke. Failure of the IFE cooling card to configure itself correctly in response to input signals from airplane system interfaces during a forward cargo fire, if not corrected, could result in the IFE cooling fan causing smoke to penetrate occupied areas of the airplane.

Boeing Model 767-300 series airplanes use the same IFE cooling card as that on the Boeing Model 767-400ER series airplanes. Therefore, the Boeing Model 767-300 series airplanes are subject to the same unsafe condition.

Relevant Service Information

We have reviewed Boeing Special Attention Service Bulletins 767-21-0188 (for Model 767-300 series airplanes) and 767-21-0189 (for Model 767-400ER series airplanes), both dated May 27, 2004. The service bulletins describe procedures for replacing the IFE cooling card with a new, improved cooling card. The service bulletins state that the replacement and associated functional test may be accomplished by following the procedures in the applicable Boeing 767 Airplane Maintenance Manual, or an “operator's equivalent procedure.” Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Difference Between the Proposed AD and Service Information.”

Difference Between the Proposed AD and Service Information

Boeing Special Attention Service Bulletins 767-21-0188 and 767-21-0189 both specify that an operator's equivalent procedure may be used for replacing the IFE cooling card, and for accomplishing the associated functional test. However, this proposed AD specifies that replacement of the IFE cooling card must be done according to the procedures in the chapter/subject of the applicable Boeing 767 Airplane Maintenance Manual specified in the service bulletins. This proposed AD would allow operator's equivalent procedures to be used for the functional test.

Costs of Compliance

There are about 32 airplanes of the affected design in the worldwide fleet. The following table provides the estimated costs for U.S. operators to comply with this proposed AD.

Estimated Costs
Action | Work hours | Average labor rate per hour | Parts | Cost per airplane | Number of U.S.-registered airplanes | Fleet cost
Replacement | 1 | $65 | $9,500 | $9,565 | 16 | $153,040

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-19989; Directorate Identifier 2004-NM-151-AD.

Comments Due Date

(a) The Federal Aviation Administration (FAA) must receive comments on this AD action by February 22, 2005.

Affected ADs

(b) None.

Applicability

(c) This AD applies to Boeing Model 767-300 series airplanes as listed in Boeing Special Attention Service Bulletin 767-21-0188, dated May 27, 2004; and Boeing Model 767-400ER series airplanes, as listed in Boeing Special Attention Service Bulletin 767-21-0189, dated May 27, 2004; certificated in any category.

Unsafe Condition

(d) This AD was prompted by a report of an improperly designed component on the in-flight entertainment (IFE) cooling card, which may cause the IFE cooling system to incorrectly interpret signals from airplane system interfaces. We are issuing this AD to prevent failure of the IFE cooling card to configure correctly in response to input signals from airplane system interfaces during a forward cargo fire, which could result in the IFE cooling fan causing smoke to penetrate occupied areas of the airplane.

Compliance

(e) You are responsible for having the actions required by this AD performed within the compliance times specified, unless the actions have already been done.

Replacement of IFE Cooling Card

(f) Within 18 months after the effective date of this AD: Replace the IFE cooling card, part number (P/N) 285T1198-101, located in the P50 card file in the main equipment center, with a new, improved cooling card, P/N 285T1198-102. Do the replacement by accomplishing all of the actions specified in the Accomplishment Instructions of Boeing Special Attention Service Bulletin 767-21-0188 (for Boeing Model 767-300 series airplanes); or 767-21-0189 (for Boeing Model 767-400ER series airplanes); both dated May 27, 2004; as applicable. Where the service bulletins state that the replacement may be done using an “operator's equivalent procedure,” the replacement must be done according to the procedures in the chapter/subject of the applicable Boeing 767 Airplane Maintenance Manual specified in the service bulletins.

Parts Installation

(g) As of the effective date of this AD, no person may install an IFE cooling card, P/N 285T1198-101, on any airplane.

Alternative Methods of Compliance (AMOCs)

(h) The Manager, Seattle Aircraft Certification Office, FAA, has the authority to approve AMOCs for this AD, if requested in accordance with the procedures found in 14 CFR 39.19.

Issued in Renton, Washington, on December 27, 2004.
Kevin M. Mullin,
Acting Manager, Transport Airplane Directorate, Aircraft Certification Service.

[FR Doc. 05-165 Filed 1-4-05; 8:45 am]

BILLING CODE 4910-13-P